DEPARTMENT OF DEFENSE

Office of the Secretary

Executive Committee Meeting of the Defense Advisory Committee on Women in the Services (DACOWITS)

AGENCY: Advisory Committee on Women in the Services, Office of the Secretary, DOD.

ACTION: Notice.

SUMMARY: Pursuant to section 10(a), Public Law 92-463, as amended, notice is hereby given of a forthcoming Quarterly Executive Committee Meeting of the Defense Advisory Committee on Women in the Services (DACOWITS). The purpose of the Executive Committee Meeting is to review the responses to the recommendations and request for information adopted by the Committee at the DACOWITS 2000 Fall Conference.

DATES: February 12, 2001, 9:15 a.m.-4:30 p.m.

ADDRESSES: OSD Conference Room 1E801, #7, The Pentagon, Washington, DC.

FOR FURTHER INFORMATION CONTACT: Lieutenant Colonel Susan E. Kolb, ARNGUS, DACOWITS and Military Women Matters, OASD (Force Management Policy), 4000 Defense Pentagon, Room 3D769, Washington, DC 20301-4000; telephone (703) 697-2122.

SUPPLEMENTARY INFORMATION: Meeting agenda:

Monday, February 12, 2000 (Pentagon)

Time | Events/location | Official
9:15 a.m | Welcome remarks and introductions of Executive Committee Members, Ex-officios, MilReps and Service Liaisons (OSD Conference Room—1E801 #7) | Ms. McCall
9:30 a.m | Promotion and Retirement Information for O-6 and E-9 Grades (EM, RFI #1) (OSD Conference Room—1E801 #7) | USA, USN, USMC, USAF, USCG
10:30 a.m | Ground Combat Rule (Forces, RFI #1) OSD Conference Room—1E801 #7 | OSD, USA, USMC
11:30 a.m | Break
11:45 a.m | Lunch for Executive Committee Members, Ex-Officio's, Senior Enlisted Advisors (Executive Dining Room)—By invitation only
1:00 p.m | Passports (Room 1B870) | MAJ Wilson
2:00 p.m | Break
2:15 p.m | Integrated Deep Water Acquisition Project (Forces RFI #2) (OSD Conference Room—1E801 #7) | USCG
2:45 p.m | Off-Duty Employment (QoL RFI #3) (OSD Conference Room—1E801 #7) | USA, USN, USMC, USAF, USCG
3:15 p.m | Disparities Between Active Duty and Reserve Component (QoL RFI #2) (OSD Conference Room—1E801 #7) | OASD (RA) USCG
3:45 p.m | Submarine Personnel Assignment (Forces Recommendation #1) (OSD Conference Room—1E801 #7)
4:00 p.m | Vote to adopt 2001 Mission, Vision and Goals; Review Upcoming DACOWITS events; Wrap up | Ms. McCall
4:30 p.m | Departure from the Pengagon

Dated: January 17, 2001.
L.M. Bynum,
Alternate OSD Federal Register Liaison Officer, Department of Defense.

[FR Doc. 01-1879 Filed 1-22-01; 8:45 am]

BILLING CODE 5000-10-M